DEPARTMENT OF ENERGY

Federal Energy Regulatory Commission

[Docket No. RP08-347-000]

Columbia Gulf Transmission Company; Notice of Technical Conference

June 11, 2008.

Take notice that the Commission will convene a technical conference in the above referenced proceeding on Wednesday, July 16, 2008, at 10 a.m. (EDT), in a room to be designated at the offices of the Federal Energy Regulatory Commission, 888 First Street, NE., Washington, DC 20426.

The Commission's May 29, 2008 order ¹ in this proceeding directed that a technical conference be held to address the issues raised by an April 30, 2008 filing of Columbia Gulf Transmission Company to reflect its annual Transportation Retainage Adjustment (TRA), pursuant to the provisions of section 33 of the General Terms and Conditions of its tariff.

¹ Columbia Gulf Transmission Company, 123 FERC ¶ 61,216 (2008).

The parties and the Commission Staff will have the opportunity to discuss all of the issues raised by the filing including, but not limited to, providing additional technical, engineering and operations support for its proposed transportation retainage percentage.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Lisa T. Long by phone at (202) 502-8691 or via e-mail at lisa.long@ferc.gov.

Kimberly D. Bose,
Secretary.

[FR Doc. E8-13680 Filed 6-17-08; 8:45 am]

BILLING CODE 6717-01-P